DEPARTMENT OF TRANSPORTATION

Pipeline and Hazardous Materials Safety Administration

Hazardous Materials: Notice of Application for Modification of Special Permit

AGENCY: Pipeline and Hazardous Materials Safety Administration (PHMSA), DOT.

ACTION: List of application for modification of special permits.

SUMMARY: In accordance with the procedures governing the application for, and the processing of, special permits from the Department of Transportation's Hazardous Material Regulations (49 CFR part 107, subpart B), notice is hereby given that the Office of Hazardous Materials Safety has received the applications described herein. This notice is abbreviated to expedite docketing and public notice. Because the sections affected, modes of transportation, and the nature of application have been shown in earlier Federal Register publications, they are not repeated here. Requests for modification of special permits (e.g. to provide for additional hazardous materials, packaging design changes, additional mode of transportation, etc.) are described in footnotes to the application number. Application numbers with the suffix “M” denote a modification request. These applications have been separated from the new application for special permits to facilitate processing.

DATES: Comments must be received on or before January 13, 2016.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

Copies of the applications are available for inspection in the Records Center, East Building, PHH-30, 1200 New Jersey Avenue Southeast, Washington DC or at http://regulations.gov.

This notice of receipt of applications for modification of special permit is published in accordance with Part 107 of the Federal hazardous materials transportation law (49 U.S.C. 5117(b); 49 CFR 1.53(b)).

Issued in Washington, DC, December 7, 2015.
Don Burger,
Chief, General Approvals and Permits.

Application No. | Docket No. | Applicant | Regulation(s) affected | Nature of special permit thereof
MODIFICATION SPECIAL PERMITS
8178-M |  | National Aeronautics & Space Administration (NASA) Washington, DC | 49 CFR 173.302(a); 173.34(d); 175.3 | To modify the special permit by extending the service life of the cylinder from 32 years to 43 years.
8451-M |  | Veolia ES Technical Solutions, L.L.C. Flanders, NJ | 49 CFR 173.320, 173.54(a), 173.56(b), 173.57, 173.58, 173.60 | To modify the special permit to authorize transportation to a final disposal and facility.
11516-M |  | Honeywell International, Inc. Morristown, NJ | 49 CFR 173.306(a)(3) | To modify the special permit to authorize an additional Division 2.2 material.
11624-M |  | Belshire Transportation Services, Inc. Foothill Ranch, CA | 49 CFR 173.173(b)(2) | To modify the special permit to authorize Class 8, PG II and PG III hazardous materials.
14298-M |  | Air Products and Chemicals, Inc. Allentown, PA | 49 CFR 180.209(a) and (b) | To modify the special permit to authorize DOT specification 3A or 3AA tubes with a capacity greater than 125 lbs mounted in an ISO or tube trailer frame to not be removed from bundles or be hammer tested prior to refilling and to align the markings requirements for ISO or tube trailer frame mounted DOT specification 3A or 3AA cylinders with those for DOT specification DOT 3A, 3AA, 3AX, 3AAX or 3T cylinders in tube trailers.
14692-M |  | Airgas USA, LLC, Tulsa, OK | 49 CFR 180.209 | To modify the special permit to increase the maximum cycling (fillings) of each cylinder in a 10 year period to 600 from 300 cycles (fillings).
15507-M |  | Yiwu Jinyu Machinery Factory, Jiangwan Town, Yiwu City | 49 CFR 173.304(d) | To modify the special permit to authorize an additional non- refillable, non-DOT specification inner container similar to a DOT specification 2Q.
16061-M |  | Battery Solutions, LLC, Howell, MI | 49 CFR 172.200, 172.300, 172.400 | To modify the special permit to authorize dry cell batteries each with a marked rating up to 12 volts to be transported without short circuit protection; to increase the quantity of lithium metal authorized in each battery from 5 grams to 25 grams; to increase the weight of each non-spillable battery authorized from 11 pounds to 25 pounds; and to correct the Packing Groups in paragraph 6.
16514-M |  | Robert Bosch Tool Corporation, Mt. Prospect, IL | 49 CFR 172.301(c), 173.185(c)(1)(iii), 173.185(c)(3)(i) | To modify the special permit to increase the watt- hour (Wh) rating of lithium ion cells and batteries from 20 Wh to 60 Wh for cells and from 100 Wh to 300 Wh for batteries.

[FR Doc. 2015-32394 Filed 12-28-15; 8:45 am]

BILLING CODE 4909-60-M